DEPARTMENT OF TRANSPORTATION

Federal Aviation Administration

14 CFR Part 39

[Docket No. FAA-2019-0717; Product Identifier 2019-NM-133-AD; Amendment 39-19879; AD 2020-06-10]

RIN 2120-AA64

Airworthiness Directives; Airbus SAS Airplanes

AGENCY: Federal Aviation Administration (FAA), Department of Transportation (DOT).

ACTION: Final rule.

SUMMARY: The FAA is adopting a new airworthiness directive (AD) for certain Airbus SAS Model A318 series airplanes; Model A319-111, -112, -113, -114, -115, -131, -132, and -133 airplanes; Model A320-211, -212, -214, -216, -231, -232, and -233 airplanes; and Model A321-111, -112, -131, -211, -212, -213, -231, and -232 airplanes. This AD was prompted by a report of cracking found on the frame of the right-hand side sliding window in the flight deck. This AD requires repetitive inspections for cracking of the vertical stiffeners of the left- and right-hand sides of the window frames and corrective actions if necessary, as specified in a European Union Aviation Safety Agency (EASA) AD, which is incorporated by reference. The FAA is issuing this AD to address the unsafe condition on these products.

DATES: This AD is effective May 4, 2020.

The Director of the Federal Register approved the incorporation by reference of certain publications listed in this AD as of May 4, 2020.

ADDRESSES: For the EASA material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu.

For the Airbus material incorporated by reference in this AD, contact Airbus SAS, Airworthiness Office—EIAS, Rond-Point Emile Dewoitine No: 2, 31700 Blagnac Cedex, France; telephone +33 5 61 93 36 96; fax +33 5 61 93 44 51; email account.airworth-eas@airbus.com; internet https://www.airbus.com.

You may view this IBR material at the FAA, Transport Standards Branch, 2200 South 216th St., Des Moines, WA. For information on the availability of this material at the FAA, call 206-231-3195. It is also available in the AD docket on the internet at https://www.regulations.gov by searching for and locating Docket No. FAA-2019-0717.

Examining the AD Docket

You may examine the AD docket on the internet at https://www.regulations.gov by searching for and locating Docket No. FAA-2019-0717; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223; email sanjay.ralhan@faa.gov.

SUPPLEMENTARY INFORMATION:

Discussion

The EASA, which is the Technical Agent for the Member States of the European Union, has issued EASA AD 2019-0173, dated July 18, 2019 (“EASA AD 2019-0173”) (also referred to as the Mandatory Continuing Airworthiness Information, or “the MCAI”), to correct an unsafe condition for certain Airbus SAS Model A318 series airplanes; Model A319-111, -112, -113, -114, -115, -131, -132, and -133 airplanes; Model A320-211, -212, -214, -215, -216, -231, -232, and -233 airplanes; and Model A321-111, -112, -131, -211, -212, -213, -231, and -232 airplanes. Model A320-215 airplanes are not on the U.S. Register; this AD therefore does not include those airplanes in the applicability.

The FAA issued a notice of proposed rulemaking (NPRM) to amend 14 CFR part 39 by adding an AD that would apply to certain Airbus SAS Model A318 series airplanes; Model A319-111, -112, -113, -114, -115, -131, -132, and -133 airplanes; Model A320-211, -212, -214, -215, -216, -231, -232, and -233 airplanes; and Model A321-111, -112, -131, -211, -212, -213, -231, and -232 airplanes. The NPRM published in the Federal Register on October 28, 2019 (84 FR 57660). The NPRM was prompted by a report of cracking found on the frame of the right-hand side sliding window in the flight deck. The NPRM proposed to require repetitive inspections for cracking of the vertical stiffeners of the left- and right-hand sides of the window frames and corrective actions if necessary.

The FAA is issuing this AD to address cracking of the vertical stiffeners of the left- and right-hand sides of the window frames, which could affect the structural integrity of the airplane. See the MCAI for additional background information.

Comments

The FAA gave the public the opportunity to participate in developing this final rule. The following presents the comments received on the NPRM and the FAA's response to each comment.

Support for the NPRM

Delta Airlines (DAL) stated its concurrence with the intent of the NPRM.

Request To Allow the Use of Additional Service Information

Airbus asked to allow the use of the following Airbus technical adaptations (TAs) during accomplishment of the related Airbus service bulletins (as identified only in section 13 of each TA), noting that they pertain to an RC (required for compliance) section of the applicable service information. Airbus stated that the TAs will ensure that the eccentric is properly reinstalled in the sliding window frame after removal.

• Airbus TA 80662272/007/2019, Issue 1, dated August 29, 2019 (Airbus Service Bulletin A320-53-1402, dated May 17, 2018)

• Airbus TA 80662272/008/2019, Issue 1, dated August 29, 2019 (Airbus Service Bulletin A320-53-1403, dated May 17, 2018)

• Airbus TA 80662272/009/2019, Issue 1, dated August 29, 2019 (Airbus Service Bulletin A320-53-1406, dated May 17, 2018)

• Airbus TA 80662272/010/2019, Issue 1, dated August 29, 2019 (Airbus Service Bulletin A320-53-1407, dated May 17, 2018)

• Airbus TA 80696258/006/2019, Issue 1, dated October 29, 2019 (Airbus Service Bulletin A320-53-1404, dated May 17, 2018)

• Airbus TA 80696258/007/2019, Issue 1, dated October 29, 2019 (Airbus Service Bulletin A320-53-1405, dated May 17, 2018)

The FAA agrees with the commenter's request for the reason provided. The FAA has added paragraph (h)(4) to this AD to reference these TAs.

Airbus also asked that the requirements in the proposed AD related to these TAs be defined more robustly than merely referring to EASA AD 2019-0173.

The FAA partially agrees. Paragraph (h)(4) of this AD is an exception to EASA AD 2019-0173 and references the service information specified in EASA AD 2019-0173. Paragraph (h)(4) of this AD has been revised to clarify the use of the TAs when complying with the requirements of this AD.

Request To Add an Airworthiness Limitations Item (ALI) Task

United Airlines (UAL) asked to add ALI Task 531136 to the proposed AD, to accomplish with the inspection specified in Airbus Service Bulletins A320-53-1402 and A320-53-1403, both dated May 17, 2018. UAL stated that ALI Task 531136 is a new inspection task introduced in Revision 46 of the maintenance planning document (MPD), and that Airbus has cancelled ALI Task 531133 in airworthiness limitations section (ALS) Part 2, Revision 8. UAL noted that Airbus TFU/ISI 53.11.00.018 can be referenced for additional information. UAL added that if ALI Task 531133 remains active, there will be duplicate inspection requirements for the same location (the vertical stiffeners).

The FAA does not agree with the commenter's request. ALS Part 2, Revision 8, might be mandatory for certain airplanes, but not for all U.S-registered airplanes. The compliance time for certain airplane configurations provided in Appendix 1 of EASA AD 2019-0173 is for inspections performed using ALI Task 531133. The FAA has not received any information from EASA or Airbus that ALI Task 531133 should be replaced with ALI Task 531136. Paragraph (6) of EASA AD 2019-0173, specifies that accomplishment of the inspection per ALI Task 531133-02-1 on an airplane within the threshold and intervals as defined in paragraph (1) of EASA AD 2019-0173, constitutes an acceptable method to comply with the requirements of paragraph (1) of EASA AD 2019-0173 for that airplane. Therefore, no duplication of the inspection requirements will occur. The AD has not been changed in this regard.

Request for Confirmation That Inspections Are Required Using Both EASA AD 2019-0173 and Applicable Repair Design Approval Sheet (RDAS)

DAL requested confirmation that when an RDAS exists for a repair of the referenced inspection area, the inspection must be accomplished per both the requirements in EASA AD 2019-0173, and each applicable RDAS. DAL stated that paragraph (5) of EASA AD 2019-0173 states that aircraft inspected and repaired before the effective date of the proposed AD per the instructions documented in an RDAS should “accomplish the next due inspection for each repaired area in accordance with, and within the time period after repair, as specified in Airbus RDAS, as applicable.” DAL stated that it recognizes that this does not terminate the inspection criteria. DAL further noted that, if this interpretation is correct, a duplicate inspection requirements is created, which could ultimately result in inspection in the same area twice at the same maintenance check.

The FAA acknowledges DAL's request and has determined that clarification is necessary. The FAA agrees that the requirements of paragraph (5) of EASA AD 2019-0173 do not terminate the repetitive inspection requirements of paragraph (1) of EASA AD 2019-0173. The FAA also agrees that there may be duplicate requirements for inspections in accordance with paragraphs (1) and (5) of the EASA AD; however, if the description and compliance time for the special detailed inspection required by the RDAS and paragraph (1) of the EASA AD are identical, operators need not perform duplicate inspections. If there are differences between the inspection requirements in the RDAS and EASA AD paragraph (1), operators can contact the manufacturer for an alternative method of compliance approved by the FAA, EASA, or EASA's Design Organization Approval (DOA). The AD has not been changed in this regard.

Request To Revise Reporting Requirement

DAL asked that the reporting requirement in paragraph (h)(3) of the proposed AD be revised to require reporting of only positive findings, in lieu of both positive and negative findings. DAL stated that, based on substantial cyclical data collected through accomplishment of ALI Task 531133 and multiple reports of positive cracking indications, Airbus has been able to develop and publish standardized repair instructions for cracking, which have been incorporated into modification service information. DAL added that, since a sufficient amount of data has been collected over time to develop these standard repairs and modifications, only positive findings should be reported. DAL concluded that, as long as accomplishment of ALI Task 531133 yielded positive findings, paragraph (h)(3)(ii) of the proposed AD should include a statement that only positive findings should be reported for inspections done before the effective date of the AD.

DAL also requested that, if revising paragraph (h)(3) of the proposed AD to specify reporting of positive inspection findings only, the FAA revise paragraph (h)(3)(ii) to include a statement that only positive findings for inspections accomplished prior to the effective date of the AD require reporting.

The FAA does not agree with the commenter's requests. The FAA has received no information suggesting that sufficient data has been collected to exclude reports of negative findings. EASA AD 2019-0173 requires repetitive inspections after accomplishing the modification, and there is no terminating action for those inspections. Further, DAL provided no substantiating data to support its assertion that, so long as cracking found during ALI Task 531133 inspections was the driver for inspections using the specified inspection service information, 100 percent of crack findings were found during inspections performed using inspection service information implemented before the effective date of this AD. Therefore, the AD has not been changed in this regard.

Conclusion

The FAA reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related IBR Material Under 1 CFR Part 51

EASA AD 2019-0173 describes procedures for repetitive inspections for cracking of the vertical stiffeners of the left- and right-hand sides of the window frame, and corrective actions if necessary. Corrective actions include modification, rework, and repair.

Airbus issued the following TAs, which provide missing torque values used during reinstallation of the eccentric in the sliding window frame. These TAs are distinct since they provide torque values used in reinstallation of the eccentric using service information specified in EASA AD 2019-0173 (service information that applies to different actions and locations).

• Airbus TA 80662272/007/2019, Issue 1, dated August 29, 2019.

• Airbus TA 80662272/008/2019, Issue 1, dated August 29, 2019.

• Airbus TA 80662272/009/2019, Issue 1, dated August 29, 2019.

• Airbus TA 80662272/010/2019, Issue 1, dated August 29, 2019.

• Airbus TA 80696258/006/2019, Issue 1, dated October 29, 2019.

• Airbus TA 80696258/007/2019, Issue 1, dated October 29, 2019.

This material is reasonably available because the interested parties have access to it through their normal course of business or by the means identified in the ADDRESSES section.

Costs of Compliance

The FAA estimates that this AD affects 988 airplanes of U.S. registry. The FAA estimates the following costs to comply with this AD:

Estimated Costs for Required Actions *
Labor cost | Parts cost | Cost per product | Cost on U.S. operators
11 work-hours × $85 per hour = $935 | $0 | $935 | $923,780
* Table does not include estimated costs for reporting.

The FAA estimates that it takes about 1 work-hour per product to comply with the reporting requirement in this AD. The average labor rate is $85 per hour. Based on these figures, the FAA estimates the cost of reporting the inspection results on U.S. operators to be $83,980, or $85 per product.

The FAA estimates the following costs to do any necessary on-condition modifications that would be required based on the results of any required actions. The FAA has no way of determining the number of aircraft that might need this on-condition modification:

Estimated Costs of On-Condition Modification
Labor cost | Parts cost | Cost per product
5 work-hours × $85 per hour = $425 | (*) | $425 *
* The FAA has received no definitive data that would enable the agency to provide parts cost estimates for the on-condition modification specified in this AD.

The FAA has received no definitive data that would enable the agency to provide cost estimates for the other on-condition actions specified in this AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-06-10 Airbus SAS: Amendment 39-19879; Docket No. FAA-2019-0717; Product Identifier 2019-NM-133-AD.

(a) Effective Date

This AD is effective May 4, 2020.

(b) Affected ADs

None.

(c) Applicability

This AD applies to Airbus SAS Model airplanes specified in paragraphs (c)(1) through (4) of this AD, certificated in any category, as identified in European Union Aviation Safety Agency (EASA) AD 2019-0173, dated July 18, 2019 (“EASA AD 2019-0173”).

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 53, Fuselage.

(e) Reason

This AD was prompted by a report of cracking found on the frame of the right-hand side sliding window in the flight deck. The FAA is issuing this AD to address cracking of the vertical stiffeners of the left- and right-hand sides of the window frames, which could affect the structural integrity of the airplane.

(f) Compliance

Comply with this AD within the compliance times specified, unless already done.

(g) Requirements

Except as specified in paragraph (h) of this AD: Comply with all required actions and compliance times specified in, and in accordance with, EASA AD 2019-0173.

(h) Exceptions to EASA AD 2019-0173

(1) Where EASA AD 2019-0173 refers to its effective date, this AD requires using the effective date of this AD.

(2) The “Remarks” section of EASA AD 2019-0173 does not apply to this AD.

(3) Paragraph (4) of EASA AD 2019-0173 specifies to report inspection results to Airbus within a certain compliance time. For this AD, report inspection results at the applicable time specified in paragraph (h)(3)(i) or (ii) of this AD.

(i) If the inspection was done on or after the effective date of this AD: Submit the report within 90 days after the inspection.

(ii) If the inspection was done before the effective date of this AD: Submit the report within 90 days after the effective date of this AD.

(4) This AD allows the use of the torque values specified in Section 13 of the Airbus technical adaptations (TAs) identified in paragraphs (h)(4)(i) through (vi) of this AD, when installing a certain eccentric referenced in the applicable Airbus service bulletin, as specified in the applicable TA.

(i) Airbus TA 80662272/007/2019, Issue 1, dated August 29, 2019.

(ii) Airbus TA 80662272/008/2019, Issue 1, dated August 29, 2019.

(iii) Airbus TA 80662272/009/2019, Issue 1, dated August 29, 2019.

(iv) Airbus TA 80662272/010/2019, Issue 1, dated August 29, 2019.

(v) Airbus TA 80696258/006/2019, Issue 1, dated October 29, 2019.

(vi) Airbus TA 80696258/007/2019, Issue 1, dated October 29, 2019.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0173 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(4) Paperwork Reduction Act Burden Statement: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory as required by this AD; the nature and extent of confidentiality to be provided, if any. Send comments regarding this burden estimate or any other aspect of this collection of information, including suggestions for reducing this burden to Information Collection Clearance Officer, Federal Aviation Administration, 10101 Hillwood Parkway, Fort Worth, TX 76177-1524.

(j) Related Information

For more information about this AD, contact Sanjay Ralhan, Aerospace Engineer, International Section, Transport Standards Branch, FAA, 2200 South 216th St., Des Moines, WA 98198; telephone and fax 206-231-3223.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2019-0173, dated July 18, 2019.

(ii) Airbus Technical Adaptation 80662272/007/2019, Issue 1, dated August 29, 2019.

(iii) Airbus Technical Adaptation 80662272/008/2019, Issue 1, dated August 29, 2019.

(iv) Airbus Technical Adaptation 80662272/009/2019, Issue 1, dated August 29, 2019.

(v) Airbus Technical Adaptation 80662272/010/2019, Issue 1, dated August 29, 2019.

(vi) Airbus Technical Adaptation 80696258/006/2019, Issue 1, dated October 29, 2019.

(vii) Airbus Technical Adaptation 80696258/007/2019, Issue 1, dated October 29, 2019.

(3) For information about EASA AD 2019-0173, contact the EASA, Konrad-Adenauer-Ufer 3, 50668 Cologne, Germany; telephone +49 221 89990 6017; email ADs@easa.europa.eu; internet www.easa.europa.eu. You may find this EASA AD on the EASA website at https://ad.easa.europa.eu.

(4) For information about the Airbus service information incorporated by reference in this AD, contact Airbus SAS, Airworthiness Office—EIAS, Rond-Point Emile Dewoitine No: 2, 31700 Blagnac Cedex, France; telephone +33 5 61 93 36 96; fax +33 5 61 93 44 51; email account.airworth-eas@airbus.com; internet https://www.airbus.com.

(5) You may view this material at the FAA, Transport Standards Branch, 2200 South 216th St., Des Moines, WA. For information on the availability of this material at the FAA, call 206-231-3195. This material may be found in the AD docket on the internet at https://www.regulations.gov by searching for and locating Docket No. FAA-2019-0717.

(6) You may view this material that is incorporated by reference at the National Archives and Records Administration (NARA). For information on the availability of this material at NARA, email fedreg.legal@nara.gov, or go to: https://www.archives.gov/federal-register/cfr/ibr-locations.html.

Issued on March 16, 2020.
Gaetano A. Sciortino,
Deputy Director for Strategic Initiatives, Compliance & Airworthiness Division, Aircraft Certification Service.

[FR Doc. 2020-06504 Filed 3-27-20; 8:45 am]

BILLING CODE 4910-13-P